DEPARTMENT OF HEALTH AND HUMAN SERVICES

National Institutes of Health

Center for Scientific Review; Amended Notice of Meeting

Notice is hereby given of a change in the meeting of the Center for Scientific Review Special Emphasis Panel, November 4, 2009, 8 a.m. to November 4, 2009, 5 p.m., Hyatt Regency Bethesda, One Bethesda Metro Center, 7400 Wisconsin Avenue, Bethesda, MD, 20814 which was published in the Federal Register on October 2, 2009, 74 FR 50975-50977.

The meeting will be held November 5, 2009. The meeting time and location remain the same. The meeting is closed to the public.

Dated: October 15, 2009.
Jennifer Spaeth,
Director, Office of Federal Advisory Committee Policy.

[FR Doc. E9-25413 Filed 10-21-09; 8:45 am]

BILLING CODE 4140-01-P